FEDERAL COMMUNICATIONS COMMISSION

[Report No. 2603]

Petition for Reconsideration of Action in Rulemaking Proceeding

April 3, 2003.

Petition for Reconsideration has been filed in the Commission's rulemaking proceeding listed in this Public Notice and published pursuant to 47 CFR section 1.429(e). The full text of this document is available for viewing and copying in Room CY-A257, 445 12th Street, SW., Washington, DC or may be purchased from the Commission's copy contractor, Qualex International (202) 863-2893. Oppositions to this petition must be filed by April 24, 2003. See section 1.4(b)(1) of the Commission's rules (47 CFR 1.4(b)(1)). Replies to an opposition must be filed within 10 days after the time for filing oppositions has expired.

Subject: Amendment of the FM Table of Allotments (Eagle, Fort Morgan, and Hudson, Colorado, Bayard and Bridgeport, Nebraska, and Douglas and Fort Laramie, Wyoming).

Number of Petitions Filed: 1.

Subject: In the matter of the Federal-State Joint Board on Universal Service (CC Docket No. 96—45).

1998 Biennial Regulatory Review—Streamlined Contributor Reporting Requirements Associated with Administration of Telecommunications Relay Service, North American Numbering Plan, Local Number Portability, and Universal Service Support Mechanisms (CC Docket No. 98-171).

Telecommunications Services for Individuals with Hearing and Speech Disabilities, and the Americans with Disabilities Act of 1990 (CC Docket No. 90-571).

Administration of the North American Numbering Plan and North American Numbering Plan Cost Recovery Contribution Factor and Fund Size (CC Docket No. 92-237).

Number Resource Optimization (CC Docket No. 99-200).

Telephone Number Portability (CC Docket No. 95-116).

Truth-in-Billing and Billing Format (CC Docket No. 98-170).

Number of Petitions Filed: 1.

Marlene H. Dortch,
Secretary.

[FR Doc. 03-8618 Filed 4-8?-03; 8:45 am]

BILLING CODE 6712-01-M